DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 29, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Standards for Privately Owned Quarantine Facilities for Ruminants.

OMB Control Number: 0579-0232.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material to prevent the spread of any livestock or poultry pest or disease. The Animal and Plant Health Inspection Service (APHIS) provides standards for the approval, operation, and oversight of privately owned quarantine facilities for imported ruminants prior to their release into the United States. The AHPA is contained in Title X, Subtitle E, Sections 10401-18 of Public Law 107-171, May 13, 2002, the Farm Security and Rural Investment Act of 2002 [7 U.S.C. 8301 et seq.].

Need and Use of the Information: APHIS uses the following information activities with its efforts to maintain a system whereby private individuals can operate (with APHIS oversight) their own facilities for the quarantine of imported ruminants: (1) Application Letter; (2) Cooperative Service Agreement; (3) Daily Log and Recordkeeping; (4) Request for Variance; and (5) Operating Procedures and Recordkeeping. Without the information, APHIS would be forced to discontinue its program of allowing the operation of privately owned quarantine facilities for ruminants, a development that would hamper U.S. animal import activities.

Description of Respondents: Business or other for-profit and State.

Number of Respondents: 5.

Frequency of Responses: Recordkeeping; Reporting: On occasion.

Total Burden Hours: 64.

Animal and Plant Health Inspection Service

Title: Irradiation Treatment; Location of Facilities in the United States.

OMB Control Number: 0579-0383.

Summary of Collection: The United States Department of Agriculture (USDA) is responsible for preventing plant diseases or insect pests from entering into the United States, preventing the spread of pests and noxious weeds not widely distributed into the United States, and eradicating those imported pests when eradication is feasible. The Plant Protection Act (7 U.S.C. 7701 et seq.) authorizes USDA to carry out this mission. Under the Plant Protection Act, the Animal and Plant Health Inspection Service (APHIS) is authorized, among other things, to regulate the importation of plants, plant products, and other articles to prevent the introduction of plant pests in the United States.

Need and Use of the Information: APHIS will use the following information collection activities to provide criteria for the approval/certification of irradiation treatment facilities in an effort to prevent the introduction or spread of plant pests and plant diseases in the United States: Request for Initial Certification and Inspection of Facility; Certification and Recertification of Facility; Denial and Withdrawal of Certification; Compliance Agreement; Irradiation Facilities Treating Imported Articles; Irradiation Treatment Framework Equivalency Work plan; Irradiation Facilities Notification; Recordkeeping; Facility to Maintain and Provide Updated Map Identifying Places Horticultural/Crops are Grown; Facility Contingency Plan; Letter of Concurrence or Non-Agreement; Treatment Arrangements; Pest Management Plan; and Facility Map—Detailed Layout of Facility. If the information is not collected, APHIS would have no practical way of determining that any given commodity had actually been irradiated.

Description of Respondents: Business or other for-profits; Federal Government; State, Local or Tribal Government.

Number of Respondents: 24.

Frequency of Responses: Reporting: On occasion.

Total Burden Hours: 988.

Ruth Brown,
Departmental Information Collection Clearance Officer.

[FR Doc. 2022-16342 Filed 7-28-22; 8:45 am]

BILLING CODE 3410-34-P